DEPARTMENT OF ENERGY

Federal Energy Regulatory Commission

Combined Notice of Filings

Take notice that the Commission has received the following Accounting Request filings:

Filings Instituting Proceedings

Docket Numbers: AC26-27-000.

Applicants: Golden Pass Pipeline LLC, Golden Pass LNG Terminal LLC.

Description: Golden Pass Pipeline LLC submits Proposed Accounting Entries re inadvertent miscalculation of depreciation rates from 12/01/2023, through 12/31/2024.

Filed Date: 2/17/26.

Accession Number: 20260217-5297.

Comment Date: 5 p.m. ET 3/10/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number. eFiling is encouraged. More detailed information relating to filing requirements, interventions, protests, service, and qualifying facilities filings can be found at: http://www.ferc.gov/docs-filing/efiling/filing-req.pdf. For other information, call (866) 208-3676 (toll free). For TTY, call (202) 502-8659. For public inquiries and assistance with making filings such as interventions, comments, or requests for rehearing, contact the Office of Public Participation at (202) 502-6595 or OPP@ferc.gov.

Dated: February 18, 2026.
Carlos D. Clay,
Deputy Secretary.

[FR Doc. 2026-03506 Filed 2-20-26; 8:45 am]

BILLING CODE 6717-01-P